FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

License Number: 4048F.

Name: General Construction and Industrial Equipment, Inc. d/b/a Gencie.

Address: 4800 East 79th Ave., Suite 106, Miami, FL 33166.

Date Revoked: November 8, 2000.

Reason: Failed to maintain a valid bond.

License Number: 14323F.

Name: Hefco International, Inc. d/b/a Hefco International d/b/a Sea Viper Shipping.

Address: 16725 Aldine Westfield, Houston, TX 77032.

Date Revoked: March 29, 2001.

Reason: Failed to maintain a valid bond.

License Number: 12707N.

Name: Maritrans Inc.

Address: 275 N. Central Avenue, Valley Stream, NY 11580.

Date Revoked: April 11, 2001.

Reason: Surrendered License voluntarily.

License Number: 2634.

Name: PLI, Inc. dba Procurement Logistics International.

Address: 6101 Dixie Drive, Houston, TX 77087.

Date Revoked: February 28, 2001.

Reason: Failed to maintain a valid bond.

License Number: 4470.

Name: Tri-Pmex, Inc.

Address: P.O. Box 891888, Temecula, CA 92589-1888.

Date Revoked: May 31, 1999.

Reason: Failed to maintain a valid bond.

Sandra L. Kusumoto,
Director, Bureau of Consumer Complaints and Licensing.

[FR Doc. 01-13060 Filed 5-22-01; 8:45 am]

BILLING CODE 6730-01-P